DEPARTMENT OF HOMELAND SECURITY

Coast Guard

33 CFR Part 100

[Docket No. USCG-2012-0134]

Annual Marine Events in the Eighth Coast Guard District

AGENCY: Coast Guard, DHS.

ACTION: Notice of enforcement of regulation.

SUMMARY: The Coast Guard will enforce Special Local Regulations for the Neches River Festival boat races in Port Neches, TX from 3 p.m. on May 4, 2012 through 6 p.m. on May 6, 2012. This action is necessary to provide for the safety of the race participants, crew, spectators, participating vessels, non-participating vessels and other users of the waterway. During the enforcement period no person or vessel may enter the zone established by the special local regulation without permission of the Captain of the Port.

DATES: The regulation in 33 CFR 100.801 (Table 1, paragraph 118) will be enforced from 3 p.m. to 6 p.m. on May 4, 2012; and from 9 a.m. to 6 p.m. on May 5 and May 6, 2012.

FOR FURTHER INFORMATION CONTACT: If you have questions on this notice of enforcement, call or email Mr. Scott Whalen, U.S. Coast Guard Marine Safety Unit Port Arthur, TX; telephone 409-719-5086, email scott.k.whalen@uscg.mil.

SUPPLEMENTARY INFORMATION: The Coast Guard will enforce Special Local Regulations for the annual Neches River Festival in 33 CFR 100.801 (Table 1, paragraph 118) on May 4, 2012, from 3 p.m. to 6 p.m. and on May 5 and May 6, 2012 from 9 a.m. to 10 p.m.

Under the provisions of 33 CFR 100.801 (Table 1, paragraph 118), a vessel may not enter the regulated area, unless it receives permission from the Captain of the Port. Spectator vessels may safely transit outside the regulated area but may not anchor, block, loiter, or impede participants or official patrol vessels. The Coast Guard may be assisted by other federal, state or local law enforcement agencies in enforcing this regulation.

This notice of enforcement is issued under the authority of 33 CFR 100.801 (Table 1, paragraph 118). In addition to this notification in the Federal Register, the Coast Guard will provide the maritime community with notification of this enforcement period via Local Notice to Mariners, Marine Information Broadcasts, and Marine Safety Information Bulletins.

If the Captain of the Port or his designated representative determines that the regulated area need not be enforced for the full duration stated in this notice of enforcement, he or she may use a Broadcast Notice to Mariners to grant general permission to enter the regulated area.

Dated: February 21, 2012.
G.J. Paitl,
Captain, U.S. Coast Guard, Captain of the Port, Port Arthur.

[FR Doc. 2012-6379 Filed 3-15-12; 8:45 am]

BILLING CODE 9110-04-P